DEPARTMENT OF COMMERCE

Bureau of the Census

Census Scientific Advisory Committee

AGENCY: Bureau of the Census, Department of Commerce.

ACTION: Notice of a Virtual Public Meeting.

SUMMARY: The Bureau of the Census (U.S. Census Bureau) is giving notice of a virtual meeting of the Census Scientific Advisory Committee (CSAC). The CSAC will provide scientific and technical expertise from the following disciplines: Statistical sciences, demography, economics, geography, psychology, survey methodology, social and behavioral sciences, information technology, and other fields of expertise, as appropriate. Last minute changes to the agenda are possible, which could prevent giving advance public notice of schedule adjustments.

DATES: On Thursday, April 18, the virtual meeting will begin at approximately 1:00 p.m. Eastern Time and adjourn at approximately 5:30 p.m.

ADDRESSES: For members of the public wishing to attend the virtual meeting in person, a listening room will be available at the following location: U.S. Census Bureau, Conference Rooms 1-3, 4600 Silver Hill Road, Suitland, MD 20746.

FOR FURTHER INFORMATION CONTACT: Jeri Green, Jeri.Green@census.gov, Committee Liaison Officer, Department of Commerce, U.S. Census Bureau, Room 8H182, 4600 Silver Hill Road, Washington, DC 20233, telephone 301-763-6590. For TTY callers, please use the Federal Relay Service 1-800-877-8339.

SUPPLEMENTARY INFORMATION: In accordance with the Federal Advisory Committee Act (FACA) (Title 5, United States Code, Appendix 2, Section 10), notice is hereby given to announce an open virtual meeting of the CSAC. The CSAC will meet in a virtual session on April 18, 2013. A virtual meeting of the CSAC provides a cost savings to the government while still offering a venue that allows for public participation and transparency, as required by the FACA.

This virtual meeting will take place by webinar and audio-video conferencing technology. All meeting participants, whether attending virtually or in person, should please register by April 10, 2013. The webinar will be limited to 200 participants. You may access the online registration form with the following link: http://www.regonline.com/csacapr2013. Web and audio instructions to participate in this meeting will be provided to all registered participants.

Members of the public are encouraged to attend the meeting virtually. For members of the public wishing to attend in person, a listening room will be made available. Please see the ADDRESSES section of this notice for the location of the listening room.

The agenda may be updated should priority items come before the Committee between the time of this publication and the scheduled date of the CSAC meeting.

These meetings are physically accessible to people with disabilities. Requests for sign language interpretation or other auxiliary aids should be directed to the Committee Liaison Officer as soon as possible, preferably two weeks prior to the meeting. If attending in person, due to increased security and for access to the meeting, please call 301-763-9906 upon arrival at the Census Bureau on the day of the meeting. A photo ID must be presented in order to receive your visitor's badge. Visitors are not allowed beyond the first floor.

Any member of the public who wishes to file written data or comments pertaining to the agenda may do so by sending the data or comments via email to: Jeri.Green@census.gov (subject line “Virtual CSAC Meeting”), or by letter submission to the Committee Liaison Officer, Department of Commerce, U.S. Census Bureau, Room 8H182, 4600 Silver Hill Road, Washington, DC 20233. Such submissions will be included in the record for the meeting if received by Wednesday, April 10, 2013.

Topics To Be Discussed

The primary purpose of the meeting is to provide the CSAC with an opportunity to discuss the following items:

• Executive Remarks.

• ACS Group Quarters Working Group.

• Optimizing Self-Response in the 2020 Census.

• Adaptive Design Case Study.

All meetings are open to the public. A brief period will be set aside at the meeting for public comment on April 18. However, individuals with extensive questions or statements (exceeding two minutes) must submit them in writing to Ms. Jeri Green by April 10, 2013.

Dated: March 20, 2013.
Thomas L. Mesenbourg, Jr.,
Senior Advisor Performing the Duties of the Director, Bureau of the Census.

[FR Doc. 2013-07464 Filed 3-29-13; 8:45 am]

BILLING CODE 3510-07-P